FEDERAL COMMUNICATIONS COMMISSION

[OMB 3060-1285; FR ID 300812]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might further reduce the information collection burden for small business concerns with fewer than 25 employees.

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before August 1, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1285.

Title: Compliance with the Non-IP Call Authentication Solution Rules; Robocall Mitigation Database; Use of Third Parties for Authentication.

Form Number: N/A.

Type of Review: Revision of a currently approved information collection.

Respondents: Business or other for-profit entities.

Number of Respondents and Responses: 27,400 respondents; 27,400 responses.

Estimated Time per Response: 0.5-3 hours.

Frequency of Response: Recordkeeping requirement; one-time, on occasion and annual reporting requirements.

Obligation to Respond: Mandatory and required to obtain or retain benefits. Statutory authority for these collections are contained in Sections 227b, 251(e), and 227(e) of the Communications Act of 1934.

Total Annual Burden: 39,450 hours.

Total Annual Cost: No Cost.

Needs and Uses: The Pallone-Thune Telephone Robocall Abuse Criminal Enforcement and Deterrence (TRACED) Act directs the Commission to require all voice service providers to implement STIR/SHAKEN caller ID authentication technology in the internet protocol (IP) portions of their networks and implement an effective caller ID authentication framework in the non-IP portions of their networks. Among other provisions, the TRACED Act also directs the Commission to create extension mechanisms for voice service providers. On September 29, 2020, the Commission adopted its Call Authentication Trust Anchor Second Report and Order. See Call Authentication Trust Anchor, WC Docket No. 17-97, Second Report and Order, 36 FCC Rcd 1859 (adopted Sept. 29, 2020). The Second Report and Order implemented section 4(b)(1)(B) of the TRACED Act, in part, by requiring a voice service provider maintain and be ready to provide the Commission upon request with documented proof that it is participating, either on its own or through a representative, including third party representatives, as a member of a working group, industry standards group, or consortium that is working to develop a non-internet Protocol caller identification authentication solution, or actively testing such a solution. The Second Report and Order also implemented the extension mechanisms in section 4(b)(5) by, in part, requiring voice service providers to certify in the Robocall Mitigation Database that they have either implemented STIR/SHAKEN or adopted a robocall mitigation program and to describe that program in a filed plan. On May 19, 2022, the Commission adopted similar obligations for gateway providers. See Advanced Methods to Target and Eliminate Unlawful Robocalls, Call Authentication Trust Anchor, CG Docket No. 17-59, WC Docket No. 17-97, Fifth Report and Order et al., 37 FCC Rcd 6865 (adopted May 19, 2022). Specifically, like voice service providers, gateway providers were required to maintain and be ready to provide the Commission upon request with documented proof that it is participating, either on its own or through a representative, including third party representatives, as a member of a working group, industry standards group, or consortium that is working to develop a non-internet Protocol caller identification authentication solution, or actively testing such a solution. Gateway providers were also required to implement both STIR/SHAKEN on the IP portions of their networks as well as a robocall mitigation program. They must also certify to their implementation in the Robocall Mitigation Database and describe their robocall mitigation program in a filed plan. On March 16, 2023, the Commission adopted an Order imposing largely the same obligations that applied to gateway providers on a new class of providers: non-gateway intermediate providers. See Call Authentication Trust Anchor, Sixth Report and Order and Further Notice of Proposed Rulemaking, WC Docket No. 17-97, 38 FCC Rcd 2573 (adopted March 16, 2023). In that action, the Commission also required all voice service providers to adopt a robocall mitigation program and file a description of that program in the Robocall Mitigation Database, as well as requiring all classes of providers to file additional information in the Robocall Mitigation Database. On May 18, 2023, the Commission adopted an Order modifying some of these requirements. See Advanced Methods to Target and Eliminate Unlawful Robocalls, Call Authentication Trust Anchor, CG Docket No. 17-59, WC Docket No. 17-97, Seventh Report and Order et al., 38 FCC Rcd 5404 (adopted May 18, 2023). On November 21, 2024, the Commission strengthened these requirements by establishing rules for the use of third parties in the caller ID authentication process. To ensure compliance with these rules, the Commission required providers that choose to work with a third party to authenticate calls to do so pursuant to a written agreement and specified that providers must maintain a copy of such agreement for two years following the end or termination of the agreement, and that providers may be required to submit a copy of said agreement to the Commission in connection with a compliance review or enforcement action by the Commission. Call Authentication Trust Anchor, WC Docket No. 17-97, Eighth Report and Order, FCC 24-120 (adopted Nov. 21, 2024) (Eighth Report and Order). On December 30, 2024, the Commission adopted an Order in a separate proceeding that establishes procedural measures and technical solutions that will ensure and improve the overall quality of submissions to the Robocall Mitigation Database. In doing so, the Commission adopted a requirement that all entities and individuals that register in the Commission's CORES database update any information submitted to CORES within 10 business days of any change to that information. It also required that all Robocall Mitigation Database filers recertify annually to the accuracy and completeness of the information contained in their filing. See Improving the Effectiveness of the Robocall Mitigation Database, Amendment of Part 1 of the Commission's Rules, Concerning Practice and Procedure, Amendment of CORES Registration System, WC Docket No. 24-213, MD Docket No. 10-234, Report and Order, FCC 24-135 (adopted Dec. 30, 2024) (RMD Report and Order).

Federal Communications Commission.
Marlene Dortch,
Secretary, Office of the Secretary.

[FR Doc. 2025-12398 Filed 7-1-25; 8:45 am]

BILLING CODE 6712-01-P